DEPARTMENT OF TRANSPORTATION

National Highway Traffic Safety Administration

[Docket No. NHTSA-2009-0003; Notice 2]

General Motors Corporation, Grant of Petition for Decision of Inconsequential Noncompliance

General Motors Corporation (GM) has determined that certain Model Year 2009 Chevrolet Cobalt and Pontiac G5 passenger cars did not fully comply with paragraphs S4.3(c) and S4.3(d) of 49 CFR 571.110, Federal Motor Vehicle Safety Standard (FMVSS) No. 110, Tire Selection and Rims, for Motor Vehicles With a GVWR of 4,536 Kilograms (10,000 pounds) or Less. GM has filed an appropriate report pursuant to 49 CFR Part 573, Defect and Noncompliance Responsibility and Reports.

Pursuant to 49 U.S.C. 30118(d) and 30120(h) (see implementing rule at 49 CFR part 556), GM has petitioned for an exemption from the notification and remedy requirements of 49 U.S.C. Chapter 301 on the basis that this noncompliance is inconsequential to motor vehicle safety.

Notice of receipt of the petition was published with a 30-day public comment period, on 2/9/2009, in the Federal Register (74 FR 6453). No comments were received. To view the petition and all supporting documents log onto the Federal Docket Management System Web site at: http://www.regulations.gov/. Then follow the online search instructions to locate docket number “NHTSA-2009-0003.”

For further information on this decision, contact Mr. John Finneran, Office of Vehicle Safety Compliance, the National Highway Traffic Safety Administration (NHTSA), Telephone (202) 366-0645, Facsimile (202) 366-5930.

Affected are approximately 6,619 model year 2009 Chevrolet Cobalt and Pontiac G5 passenger cars built from April 2008 through November 12, 2008.

Paragraph S4.3 of FMVSS No. 110 requires in pertinent part:

S4.3 Placard. Each vehicle, except for a trailer or incomplete vehicle, shall show the information specified in S4.3(a) through (g), and may show, at the manufacturer's option, the information specified in S4.3(h) and (i), on a placard permanently affixed to the driver's side B-pillar. In each vehicle without a driver's side B-pillar and with two doors on the driver's side of the vehicle opening in opposite directions, the placard shall be affixed on the forward edge of the rear side door. If the above locations do not permit the affixing of a placard that is legible, visible and prominent, the placard shall be permanently affixed to the rear edge of the driver's side door. If this location does not permit the affixing of a placard that is legible, visible and prominent, the placard shall be affixed to the inward facing surface of the vehicle next to the driver's seating position. This information shall be in the English language and conform in color and format, not including the border surrounding the entire placard, as shown in the example set forth in Figure 1 in this standard. At the manufacturer's option, the information specified in S4.3(c), (d), and, as appropriate, (h) and (i) may be shown, alternatively to being shown on the placard, on a tire inflation pressure label which must conform in color and format, not including the border surrounding the entire label, as shown in the example set forth in Figure 2 in this standard. The label shall be permanently affixed and proximate to the placard required by this paragraph. The information specified in S4.3(e) shall be shown on both the vehicle placard and on the tire inflation pressure label (if such a label is affixed to provide the information specified in S4.3(c), (d), and, as appropriate, (h) and (i)) may be shown in the format and color scheme set forth in Figures 1 and 2. * * *

(c) Vehicle manufacturer's recommended cold tire inflation pressure for front, rear and spare tires, subject to the limitations of S4.3.4. For full size spare tires, the statement “see above” may, at the manufacturer's option replace manufacturer's recommended cold tire inflation pressure. If no spare tire is provided, the word “none” must replace the manufacturer's recommended cold tire inflation pressure.

(d) Tire size designation, indicated by the headings “size” or “original tire size” or “original size,” and “spare tire” or “spare,” for the tires installed at the time of the first purchase for purposes other than resale. For full size spare tires, the statement “see above” may, at the manufacturer's option replace the tire size designation. If no spare tire is provided, the word “none” must replace the tire size designation; * * *

In its petition, GM explained that the noncompliances with FMVSS No. 110 exist due to errors in the vehicle tire and loading information placards that it affixed to the vehicles. GM explains that the subject vehicles were originally designed to be equipped with spare tires as standard equipment. The vehicle owner's manuals and tire and information placards included all required information associated with the spare tire equipped vehicles. When a production change substituted a Tire Sealant and Compressor Kit (inflator kit) for the spare tire, the vehicle tire and information placards should have been revised to comply with paragraphs S4.3(c) and S4.3(d) of FMVSS No. 110, but were not.

GM described the noncompliances as the following errors on the tire and loading information placard:

(1) The tire size designation shows a spare tire size appropriate for the subject vehicles instead of the word “none”.

(2) The manufacturer's recommended cold tire inflation pressure shows inflation pressure appropriate for the subject spare tire instead of the word “none”.

GM also stated that all other information (front and rear tire size designations and their respective cold tire inflation pressures as well as seating capacity and vehicle capacity weight) on the subject placards is correct and that it was not aware of any field or owner complaints associated with these noncompliances.

GM additionally stated that it believes that this noncompliance is inconsequential to motor vehicle safety for the following reasons:

(1) All information required for maintaining and/or replacing the front and rear tires, as well as the seating capacity and vehicle capacity weight are correct on the tire and loading information placard on the subject vehicles.

(2) The vehicle price label (a.k.a., the Monroney label) has the correct information, whether the vehicle is equipped with an inflator kit or a spare tire. Therefore, original purchase owners should already know if their vehicle is equipped with an inflator kit in place of a spare tire.

(3) In addition to the FMVSS No. 138 required owner's manual language of checking the inflation pressures of all tires including the spare monthly, the owner's manual also recommends the owner to check the tires including the compact spare once a month or more. The tire information placard on the subject vehicles contains spare tire size and recommended cold tire inflation pressure instead of the word “none” as required by FMVSS No. 110. The inflator kit is located in the same location where a spare tire would be for vehicles ordered with an optional spare tire. Therefore, if an owner were to look for the spare tire, he/she would find the inflator kit, and realize that the vehicle is equipped with an inflator kit instead of a spare tire.

(4) In the event of a flat tire, the inflator kit serves the purpose of getting back on the road. Since the inflator kit is located in the same location as the spare tire, the customer should have no problem finding it. The owner's manual provides the instructions for using the inflator kit as well as installing the spare tire. There is a label with instructions on the sealant canister of the inflator kit as well.

(5) The inflator kit includes a tire sealant canister, an air compressor as well as a pressure gage in one unit. The inflator kit can be used to inflate one or more tires regardless whether the vehicle has a punctured tire or not. The sealant of the GM sealant canister does not damage the TPMS pressure sensor, and the TPMS continues to function.

(6) OnStar e-mail service subscribers get monthly reminders on tire pressure maintenance, including the recommended cold tire inflation pressures and status of their tire pressures.

(7) Risk to the public is negligible because the vehicle does have an inflator kit.

(8) GM is not aware of any incidents or injuries related to the subject condition.

GM also has informed NHTSA that it has corrected the problem that caused these errors so that they will not be repeated in future production.

In summation, GM states that it believes that the noncompliances are inconsequential to motor vehicle safety and that no corrective action is warranted.

NHTSA Decision

The agency agrees with GM that the noncompliances are inconsequential to motor vehicle safety. The agency believes that the true measure of inconsequentiality to motor vehicle safety in this case is that there is no effect of the noncompliances on the operational safety of the subject vehicles in which the vehicle tire and loading information placards erroneously indicated that a spare tire was available when, in fact, a tire inflator kit was installed in lieu of the spare tire.

In the agency's judgment, this noncompliance to FMVSS No. 110 will have an inconsequential effect on motor vehicle safety because:

In the event of a flat tire, the inflator kit serves the purpose of getting back on the road. Since the inflator kit is located in the same location as the spare tire, the customer should have no problem finding it. The owner's manual provides the instructions for using the inflator kit as well as installing a spare tire, should one become available. There is a label with use instructions on the sealant canister of the inflator kit as well.

Additionally, all information required for maintaining and/or replacing the front and rear tires (i.e., tire size designations and their respective cold tire inflation pressures), as well as the seating capacity and vehicle capacity weight are correct on the tire and loading information placard on the subject vehicles.

In consideration of the foregoing, NHTSA has decided that GM has met its burden of persuasion that the subject FMVSS No. 10 labeling noncompliances are inconsequential to motor vehicle safety. Accordingly, GM's petition is granted and the petitioner is exempted from the obligation of providing notification of, and a remedy for, the subject noncompliance under 49 U.S.C. 30118 and 30120.

Authority: (49 U.S.C. 30118, 30120: delegations of authority at CFR 1.50 and 501.8).

Issued on: November 15, 2010.
Claude H. Harris,
Director, Office of Vehicle Safety Compliance.

[FR Doc. 2010-29170 Filed 11-18-10; 8:45 am]

BILLING CODE 4910-59-P